DEPARTMENT OF TRANSPORTATION

Federal Transit Administration

Intent To Prepare an Environmental Impact Statement for the Metro Gold Line Foothill Extension, Azusa to Montclair in Los Angeles and San Bernardino Counties, CA

AGENCY: Federal Transit Administration, DOT.

ACTION: Notice of Intent to Prepare an Environmental Impact Statement.

SUMMARY: The Federal Transit Administration (FTA), as the federal lead agency, and the Metro Gold Line Foothill Extension Construction Authority (Construction Authority) intend to prepare an Environmental Impact Statement (EIS) for proposed transit improvements in the Foothill Extension Transit Corridor. FTA is the lead Federal agency with the Construction Authority as a co-lead agency for the National Environmental Policy Act (NEPA) process because the Construction Authority is seeking Federal funding for the proposed project. The proposed project is an extension of the existing Metro Gold Line light rail transit line, from Azusa to Montclair, with proposed stations in Glendora, San Dimas, La Verne, Pomona, Claremont and Montclair. The proposed project will improve mobility in eastern Los Angeles County and western San Bernardino County by introducing high-frequency transit service options; enhance the regional transit network by interconnecting existing and planned rail and bus transit lines; provide an alternative mode of transportation for commuters who currently use the congested I-210 corridor; improve transit accessibility for residents and employees who live and/or work along the corridor; and encourage a mode shift to transit, reducing air pollution and greenhouse gas emissions.

The EIS will be prepared in accordance with the requirements of NEPA and its implementing regulations. Prior to commencement of a Final EIS, a locally preferred alternative (LPA) will be identified and adopted by the Construction Authority Board and included in the Los Angeles County Metropolitan Transportation Authority (LACMTA) Constrained Long Range Transportation Plan (LRTP). LACMTA and the Construction Authority do not currently anticipate applying for 43 U.S.C. 5309 New Starts funding.

The Construction Authority will be preparing a joint EIS/EIR document to comply with NEPA and the California Environmental Quality Act (CEQA). The purpose of this notice is to alert interested parties regarding the intent to prepare the EIS, to provide information on the nature of the proposed project and possible alternatives, to invite public participation in the EIS process (including providing comments on the scope of the Draft EIS), to announce that public scoping meetings will be conducted, and to invite participating and cooperating agencies.

DATES: Written comments on the scope of the EIS, including the project's purpose and need, the alternatives to be considered, the impacts to be evaluated, and the methodologies to be used in the evaluations should be sent to the Construction Authority on or before February 2, 2011 at the address below. See ADDRESSES below for the address to which written public comments may be sent. Public scoping meetings to accept comments on the scope of the EIS/EIR will be held on the following dates:

• Wednesday, January 12, 2011; 6 to 8 p.m. at the Ganesha Community Center, 1575 North White Avenue, Pomona, CA.

• Thursday, January 13, 2011; 6 to 8 p.m. at the Glendora Teen and Family Center, 241 West Dawson Street, Glendora, CA.

• Wednesday, January 19, 2011; 6 to 8 p.m. at the Oakmont Elementary School, 120 West Green Street, Claremont, CA.

• Thursday, January 20, 2011; 6 to 8 p.m. at the Ekstrand Elementary School, 400 North Walnut Avenue, San Dimas, CA.

The prior planning work, the project's purpose and need, and the description of alternatives will be presented at these meetings. The buildings used for the scoping meetings are accessible to persons with disabilities. Any individual who requires special assistance, such as a sign language interpreter, to participate in a scoping meeting should contact Ms. Lisa Levy Buch, Director of Public Affairs, Metro Gold Line Foothill Extension Construction Authority, at (626) 305-7004, or llevybuch@foothillextension.org.

Scoping materials will be available at the meetings and are available on the Construction Authority's Web site (http://www.foothillextension.org). Hard copies of the scoping materials may also be obtained from Ms. Sylvia Beltran, Community Outreach Coordinator, Metro Gold Line Foothill Extension Construction Authority, at (626) 305-7012, or sbeltran@foothillextension.org.

An interagency scoping meeting will be held on Thursday, January 13, 2011, at 2 p.m. at the Glendora Teen and Family Center, 241 West Dawson Street, Glendora, CA. Representatives of Native American tribal governments and of all federal, state, regional and local agencies that may have an interest in any aspect of the project will be invited to be participating or cooperating agencies, as appropriate and participate in the National Historic Preservation Act Section 106 Process.

ADDRESSES: Comments will be accepted at the public scoping meetings or they may be sent to Ms. Lisa Levy Buch, Director of Public Affairs, Metro Gold Line Foothill Extension Construction Authority, 406 E. Huntington Drive, Suite 202, Monrovia, CA 91016-3633, or via e-mail at llevybuch@foothillextension.org. The locations of the public scoping meetings are given above under DATES.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION:

Background

A Draft EIS/EIR for Gold Line Phase II Pasadena to Montclair Foothill Extension was issued in April 2004 (“2004 DEIS/EIR”). A Notice of Availability was published in the Federal Register on May 7, 2004. Following the release of the 2004 DEIS/EIR, the public comment period, and input from the cities along the alignment, the Construction Authority Board approved a Locally Preferred Alternative (LPA) in August 2004 for the Pasadena to Azusa extension of the Gold Line Phase II Project. In March 2005, a Project Definition Report (PDR) was prepared to refine the station and parking lot locations, grade crossings, two rail grade separations, and traction power substation locations. Following the PDR, the Construction Authority Board approved a Revised LPA in June 2005. Between March and August 2005, station options in Claremont were added.

Subsequent to circulation of the 2004 DEIS/DEIR the Construction Authority decided to fund the Pasadena to Azusa extension of the Gold Line Phase II Project without Federal funding and the environmental impact assessment for Phase II no longer proceeded as a joint NEPA/CEQA document but as a CEQA document. The Pasadena to Azusa Extension project of the Gold Line Phase II Pasadena to Montclair Extension was certified under CEQA by the Construction Authority and a FEIR was completed in February 2007. Because the Construction Authority decided to fund the Pasadena to Azusa extension of the Gold Line Phase II Project without Federal funding, the FTA subsequently withdrew the Gold Line Phase II DEIS on June 25, 2010.

The Construction Authority will be seeking Federal funding for the Metro Gold Line Foothill Extension from Azusa to Montclair and an EIS will be prepared. To avoid confusion expressed about the terminology used in the 2004 DEIS/EIR (e.g. Phase I; Phase II, Segments 1 and 2), the proposed project described by this NOI, which was previously named Gold Line Phase II Segment 2, is now referred to as the Metro Gold Line Foothill Extension, Azusa to Montclair Project.

The proposed Metro Gold Line Foothill Extension, Azusa to Montclair Project, is included in the strategic unfunded element of the LACMTA 2009 LRTP. Various transit improvements were explored and opportunities identified in other studies such as the Gold Line Phase II Extension Pasadena to Claremont Alternatives Analysis, Final Draft Report (January 9, 2003), and the Gold Line Phase II Pasadena to Montclair Foothill Extension Final Environmental Impact Report (2007) which are available for review at the LACMTA Transportation Library, 15th Floor, One Gateway Plaza, Los Angeles, CA 90012, the Metro Gold Line Foothill Extension Construction Authority, 406 E. Huntington Drive, Suite 202, Monrovia, CA 91016-3633, and on the Construction Authority's Web site (http://www.foothillextension.org).

Project Initiation and Scoping

The FTA and the Construction Authority will prepare an EIS/EIR for the Metro Gold Line Foothill Extension Azusa to Montclair Project pursuant to 23 U.S.C. 139 and CEQA. The Construction Authority is serving as the local lead agency for purposes of CEQA. FTA is serving as the Federal lead agency and the Construction Authority as a co-lead agency for purposes of NEPA. FTA and the Construction Authority will invite interested Federal, State, Tribal, regional and local government agencies to be participating agencies under the provisions of Title 23 CFR 771.111.

Scoping is the process of determining the scope, focus, and content of an EIS. FTA and the Construction Authority invite all interested individuals and organizations, public agencies, and Native American Tribes to comment on the scope of the EIS, including the project's purpose and need, the alternatives to be studied, the impacts to be evaluated, and the evaluation methods to be used. Comments should focus on: (1) Feasible alternatives that may better achieve the project's need and purposes with fewer adverse impacts, and (2) any significant environmental impacts relating to the alternatives. NEPA “scoping” has specific and fairly limited objectives, one of which is to identify the significant issues associated with alternatives that will be examined in detail in the document, while simultaneously limiting consideration and development of issues that are not truly significant.

Purpose and Need for the Project

The purpose of this project is to provide a high-capacity transportation improvement that responds to problems associated with the I-210, a freeway that is not able to accommodate current and forecasted peak-hour travel demands; respond to the limited bus routes and commuter rail service available in the study corridor; respond to problems associated with the corridor's congested arterial network; respond to issues associated with population and employment conditions and forecasts; respond to goals of the region and corridor to improve air quality and avoid or minimize impacts to natural and manmade environments.

Project Location and Environmental Setting

The proposed project is located in Los Angeles and San Bernardino Counties encompassing six adjoining cities that are located along I-210 and a railroad right-of-way, between the eastern boundary of Azusa on the west and Montclair on the east. The project area includes the cities of Glendora, San Dimas, La Verne, Pomona, and Claremont in Los Angeles County. In San Bernardino County, it includes the city of Montclair.

The Build Alternative is a Light Rail Transit (LRT) system that would begin at the current terminus of the Metro Gold Line at the Azusa-Citrus Station continuing east to Montclair.

Alternatives

The Gold Line Phase II Extension Pasadena to Claremont Alternatives Analysis, Final Draft Report (January 9, 2003), prepared for the Construction Authority, studied a number of alternatives within the study area. This analysis looked at a wide range of alignment and technology options aimed at serving the corridor transportation needs. These included a No-Build Alternative, a Transportation System Management (TSM) Alternative, as well as various modal alternatives. The initial analysis looked at enhanced bus service, bus rapid transit, LRT, commuter rail, diesel multiple units, high occupancy vehicle facilities, and fixed-guideway facilities. The alignment alternatives included the existing railroad right-of-way, the I-210 freeway, and local major arterials. Operations alternatives varied by mode starting with five-minute headways.

The three alternatives being evaluated include the No Build Alternative, TSM, and the Build Alternative. The freight rail alignment identified in the Alternatives Analysis Report with the LRT technology is the Build Alternative that will be analyzed. In addition, pursuant to 40 CFR 1502.14, the EIS will analyze any reasonable alternatives identified during scoping.

No-Build Alternative: The No-Build Alternative includes all highway and transit projects and operations that the region and LACMTA expect to be in place in 2035. The No-Build Alternative would not require construction of ancillary facilities other than those included in the projects comprising the alternative. The No-Build Alternative is LACMTA's 2009 LRTP adopted in October 2009. This 2009 LRTP includes a balance of vehicle and transit improvements, including an expanded bus and rail network. Projects within the 2009 LRTP that are relevant to the corridor are stated below.

• Transit projects include countywide (Los Angeles and San Bernardino Counties) bus service improvements; commuter rail (Metrolink) improvements; and light rail and heavy rail transit improvements.

• Freeway improvements include projects on freeways such as the extension of freeway Route 30/I-210 from Foothill Boulevard to I-15 (now completed) and the continuing extension of I-15 to I-215 in the future.

• Smart street projects include improvements such as synchronized traffic signals, on-street parking removal, frontage road and grade separation construction, and key intersection improvements to improve traffic flow.

• Arterial improvement projects include improvements to existing roadways.

Transportation System Management (TSM) Alternative: The EIS/EIR will evaluate transportation and environmental effects of modest improvements in the highway and transit systems beyond those in the No-Build Alternative. The TSM Alternative would include low-cost improvements to the No-Build Alternative to reduce delay and enhance mobility. The TSM Alternative would emphasize transportation system upgrades, such as intersection improvements, minor road widening, traffic engineering actions, bus route restructuring, shortened bus headways, expanded use of articulated buses, reserved bus lanes, expanded park-and-ride facilities, express and limited-stop service, signalization improvements, and timed-transfer operations.

Build Alternative: The Build Alternative utilizes the existing LACMTA/Construction Authority and San Bernardino Associated Governments rights of way through the San Gabriel Valley for LRT service. The Build Alternative would extend the Metro Gold Line LRT system from the eastern boundary of Azusa to the Montclair TransCenter (approximately 11.4 miles) located in Montclair, bordering the city of Upland. The same LRT technology and the same types of system components would be used as the existing Metro Gold Line. The Build Alternative would include six new stations, with one in each of the cities along the corridor; Glendora, San Dimas, La Verne, Pomona, Claremont and Montclair. Potential station locations have been defined in consultation with the corridor cities. Parking facilities would be provided at each new station.

Eight traction power substations (TPSSs) would be constructed along the route in order to provide electrical power to the line. Where possible, TPSS sites would be located near a station. TPSS sites would be located within existing rail right of way or within properties to be acquired for stations or parking. The Build Alternative would include two LRT tracks throughout, and one freight track between the eastern boundary of Azusa and Pomona. In Pomona, the single freight track would then join up with the double Metrolink tracks and continue through to Montclair and beyond.

Probable Effects

The purpose of this EIS process is to study, in a public setting, the effects of the proposed project and its alternatives on the physical, human, and natural environment. The FTA and the Construction Authority will evaluate all significant environmental, social, and economic impacts of the construction and operation of the proposed project. The probable impacts will be determined as part of the project scoping. Unless further screening illuminates areas of possible impact, resource areas will be limited to those identified during scoping. Measures to avoid, minimize, and mitigate adverse impacts will also be identified and evaluated.

FTA Procedures

The regulations implementing NEPA, as well as provisions of the Safe, Accountable, Flexible, Efficient Transportation Equity Act: A Legacy for Users (SAFETEA-LU), calls for public involvement in the EIS process. Section 6002 of SAFETEA-LU requires that FTA and the Construction Authority do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and the Construction Authority will not be able to identify all Federal and non-Federal agencies and Native American tribes that may have such an interest. Any Federal or non-Federal agency or Native American tribe interested in the proposed project that does not receive an invitation to become a participating agency should notify at the earliest opportunity the Community Outreach Coordinator identified above under ADDRESSES.

The EIS will be prepared in accordance with NEPA and its implementing regulations issued by the Council on Environmental Quality (40 CFR parts 1500-1508) and with the FTA/Federal Highway Administration regulations “Environmental Impact and Related Procedures” (23 CFR part 771). Related environmental procedures to be addressed during the NEPA process, include, but are not limited to the project-level air quality conformity regulation of the U.S. Environmental Protection Agency (EPA) (40 CFR part 93); the regulation implementing Section 106 of the National Historic Preservation Act (36 CFR part 800); Section 4(f) of the Department of Transportation Act (23 CFR part 774); and Executive Order 12898 on environmental justice.

Issued on: December 17, 2010.
Leslie T. Rogers,
Regional Administrator, Region IX, Federal Transit Administration.

[FR Doc. 2010-32337 Filed 12-23-10; 8:45 am]

BILLING CODE 4910-57-P